ENVIRONMENTAL PROTECTION AGENCY

40 CFR Part 80

[AMS-FRL-7096-5]

RIN-2060-AJ69

Revisions to the Requirements on Variability in the Composition of Additives Certified Under the Gasoline Deposit Control Program; Direct Final Rule

AGENCY: Environmental Protection Agency (EPA).

ACTION: Direct final rule.

SUMMARY: Deposits that form in gasoline-fueled motor vehicle engines and fuel supply systems have been shown to increase emissions of harmful air pollutants. All gasoline used in the U.S. must contain additives that have been certified with EPA as effective in limiting the formation of such deposits. During certification, additive manufacturers must provide EPA with information on additive composition. To ensure that in-use additives meet EPA requirements, manufacturers are required to limit variation in the composition of additive production batches from that reported during certification.

Today's action makes revisions to the information that must be provided on additive composition by the manufacturer at the time of certification and clarifies the requirements associated with limiting variability in additive production batches. These changes address additive manufacturer concerns that compliance with the existing requirements would be burdensome and difficult, while maintaining the emissions control benefits of the gasoline deposit control program.

We are making these regulatory changes by direct final rule without prior proposal because we view these changes as noncontroversial revisions and anticipate no adverse comment. The “Proposed Rules” section of this Federal Register, contains a proposed rule in which we propose the regulatory changes in this direct final rule. If we receive no adverse comment, we will not take further action on the proposed rule. If we receive adverse comment, we will withdraw the portions of the direct final rule receiving such comment and those portions will not take effect. Any adverse comments received on this notice will be addressed in a subsequent final rule based on the proposed rule. We will not institute a second comment period on this action. Any parties interested in commenting must do so at this time. We are not planning to hold a public hearing regarding this action.

DATES: This rule is effective on February 4, 2002 without further notice, unless EPA receives adverse comment by January 4, 2002. If we receive adverse comment, we will withdraw an amendment, paragraph, or section of the direct final rule receiving such comment and those amendments, paragraphs, or sections will not take effect. Any distinct amendment, paragraph, or section of today's rulemaking for which we do not receive adverse comment will become effective on the date set out above, notwithstanding any adverse comment on any other distinct amendment, paragraph, or section of today's rule.

ADDRESSES: Interested parties may submit written comments in response to this notice (in duplicate if possible) to Public Docket No. A-2001-15, at: Air Docket Section, U.S. Environmental Protection Agency, Attention: Docket No. A-2001-15, First Floor, Waterside Mall, Room M-1500, 401 M Street SW., Washington, DC 20460 (Telephone 202-260-7548; Fax 202-260-4400). We also request that a copy of the comments be sent to Jeff Herzog by mail at, U.S. EPA, Assessment and Standards Division, 2000 Traverwood Drive, Ann Arbor, MI 48105-2498, or by E-Mail at herzog.jeff@epa.gov

This direct final rule and the associated proposed rule are available electronically on the day of publication from the Office of the Federal Register internet Web site listed below. Electronic copies of these notices are also available from the EPA Office of Transportation and Air Quality Web site listed below. This service is free of charge, except for any cost that you already incur for internet connectivity.

Federal Register Web Site:

http://www.epa.gov/docs/fedrgstr/EPA-AIR/ (Either select desired date or use Search feature.)

Office of Transportation and Air Quality Web Site:

http://www.epa.gov/otaq/ (Look in “What's New” or under the specific rulemaking topic.)

Please note that due to differences between the software used to develop the document and the software into which the document may be downloaded, changes in format, page length, etc. may occur.

FOR FURTHER INFORMATION CONTACT: Jeff Herzog, U.S. Environmental Protection Agency, Assessment and Standards Division, 2000 Traverwood, Ann Arbor, MI, 48105-2498. Telephone (734) 214-4227; Fax (734) 214-4051; e-mail herzog.jeff@epa.gov

SUPPLEMENTARY INFORMATION:

Regulated Entities

Entities potentially regulated by this action are those that manufacture gasoline deposit control (detergent) additives. Regulated categories and entities include:

Category | NAICS code | SIC code | Example of regulated entities
Industry | 325998 | 2899 | Gasoline deposit control additive manufacturers.
a. North American Industry Classification System (NAICS).
b. Standard Industrial Classification (SIC) system code.

This table is not intended to be exhaustive, but rather provides a guide for readers regarding entities likely to be regulated by this action. This table lists the types of entities that EPA is now aware could potentially be regulated by this action. Other types of entities not listed in the table could also be regulated. To determine whether your organization is regulated by this action, you should carefully examine the applicability requirements in § 80.161(a), the detergent certification requirements in § 80.161(b), the program controls and prohibitions in § 80.168, and other related program requirements in Subpart G, title 40, of the Code of Federal Regulations (CFR). If you have any questions regarding the applicability of this action to a particular entity, consult the person listed in the preceding FOR FURTHER INFORMATION CONTACT section.

I. Overview of Action

The accumulation of deposits in the engine and fuel supply systems of gasoline motor vehicles can significantly increase emissions of nitrous oxides ( NOX), hydrocarbons (HC), and carbon monoxide (CO). Pursuant to the requirements of Section 211(l) of the Clean Air Act (CAA), EPA set forth a gasoline deposit control program which requires that all gasoline sold for use in motor vehicles in the United States (U.S.) contain additives that are effective in limiting the formation of such deposits (40 CFR Part 80). Specifically, EPA requires that deposit control additives be certified for their ability to control fuel injector and intake valve deposits in EPA-specified test procedures. The final requirements of EPA's gasoline deposit control program were published on July 5, 1996, and became effective August 1, 1997 (61 FR 35309).

Variation in the composition of gasoline deposit control additives (DC additives) from one production batch to the next could have a substantial impact on their ability to control deposits, and on the emissions benefits of EPA's deposit control program. To ensure that the in-use performance of gasoline deposit control additives matches that demonstrated in the certification testing, EPA set forth requirements limiting the variability in the composition of additive production batches (from the composition reported in the additive's certification).

The Chemical Manufacturers Association (CMA, which is now the American Chemistry Council) notified EPA that certain aspects of the requirements to limit variability in DC additive composition would be burdensome and difficult for additive manufactures to comply with. CMA also stated that other related provisions needed to be clarified. Accordingly, CMA filed a petition for review of these requirements.¹ CMA then entered into a process with EPA to evaluate alternatives to EPA's current requirements. Through this process, changes to EPA's current requirements were developed that resolve CMA's concerns while meeting EPA's goal of preserving the emissions benefits of the gasoline deposit control program by effectively limiting variability in additive composition. Today's Final Rule makes the changes which CMA and EPA agreed upon in the settlement agreement to resolve CMA's petition for review.

¹ Petition for review under the Clean Air Act's judicial review provisions, Chemical Manufacturers Association v. U.S. EPA, No. 96-1297, August 26, 1996.

EPA is publishing this rule without prior proposal because we view these provisions as non-controversial amendments and anticipate no adverse comment. However, in the “Proposed Rules” section of today's Federal Register publication, we are publishing a separate document that will serve as the proposal to make these regulatory revisions if adverse comments are filed. This rule will be effective on February 4, 2002 without further notice unless we receive adverse comment by January 4, 2002.

If EPA receives adverse comment on one or more distinct provisions, paragraphs, or sections of this rulemaking, we will publish a timely withdrawal in the Federal Register indicating which provisions, will become effective and which provisions are being withdrawn due to adverse comment. Any distinct amendment, paragraph, or section of today's rulemaking for which we do not receive adverse comment will become effective on the date set out above, notwithstanding any adverse comment on any other distinct amendment, paragraph, or section of today's rule. We will address any adverse comments received on this notice in a subsequent final rule based on the proposed rule. We will not institute a second comment period on this action. Any parties interested in commenting must do so at this time.

II. What Revisions Does This Rule Make to the Requirements on Deposit Control Additives?

The current requirements on DC additives that CMA requested be reviewed are contained in 40 CFR 80.162(a)(3) on DC additive composition variability, 40 CFR 80.162(d) on the test method to evaluate the composition of DC additives, and 40 CFR 80.169(c)(4) on detergent (deposit control additive) manufacturer presumptive liability affirmative defense. Following is a discussion of the requirements CMA requested be reviewed, EPA's reasons for establishing them in their current form, and the changes to these requirements made by today's notice.

A. Revisions to the Requirements on Variability in Additive Composition

Revisions to 40 CFR 80.162(a)(3)(i)(B)

The current regulatory requirements in 40 CFR 80.162(a)(3)(i)(B) state that:

(i) The composition of a detergent additive reported in a single additive registration (and the detergent additive product sold under a single additive registration) may not:

* * * * *

(B) Include a range of concentration for any detergent-active component such that, if the component were present in the detergent additive package at the lower bound of the reported range, the deposit control effectiveness of the additive package would be reduced as compared with the level of effectiveness demonstrated during certification testing.

EPA's goal in establishing this requirement in its current form was to ensure that each component of a deposit control (detergent) additive is present in additive production batches at no less the concentration needed to meet EPA's deposit control performance requirements.

CMA requested that the requirements of 40 CFR 80.162(a)(3)(i)(B) be revised by adding to the end: “Subject to the foregoing constraint, a detergent additive product sold under a particular additive registration may contain a higher concentration of a detergent-active component(s) than the concentration(s) of such component(s) reported in the registration for the additive.” CMA requested these revisions to make it clear that an additive manufacturer has the flexibility to increase the concentration of a detergent-active component of a deposit control additive provided that this does not result in a decrease in the concentration of other detergent-active components in the additive package.

EPA agrees that the suggested revision would appropriately clarify that an additive manufacturer has the flexibility to increase the concentration of a detergent-active component. The suggested revision would not adversely affect the environmental benefits of the program, since the requirement would remain that each detergent-active component in the additive package must be present at least at the minimum concentration indicated in the additive's certification. Consequently, EPA is making the suggested revision to 40 CFR 80.162(a)(3)(i)(B).

Revisions to 40 CFR 80.162(a)(3)(ii):

The current requirements in 40 CFR 80.162(a)(3)(ii) state that:

(ii) The identity or concentration of non-detergent-active components of the detergent additive package may vary under a single registration, provided that the range of such variation is specified in the registration and that such variability does not reduce the deposit control effectiveness of the additive package as compared with the level of effectiveness demonstrated during certification testing.

EPA's goal in establishing this requirement in its current form was to ensure that the effectiveness of deposit control additives is not adversely affected by variability in the composition of non-detergent-active components.

CMA requested that 40 CFR 80.162(a)(3)(ii) be revised by deleting: “the range of such variation is specified in the registration and that.” CMA stated that there is no need to report the range of variation in the identity or concentration of non-detergent-active components since such variation does not affect the efficacy of the deposit control additive package. CMA further stated that additive manufacturers commonly switch the nondetergent-active components they use depending on market conditions. CMA stated that restricting this flexibility would increase manufacturing costs, and potentially cause supply problems.

EPA agrees that maximizing additive manufacturer flexibility in the choice of non-detergent-active components would reduce the burden of compliance on additive manufacturers and would not jeopardize the emissions benefits of the gasoline deposit control additive program. Differences in the composition and concentration of non-detergent-additive components would have no impact on the efficacy of the deposit control additive package provided that such differences do not affect the concentration of detergent-active components in the package. There would continue to be adequate regulatory requirements to prevent such an occurrence. Thus, the change would not affect the environmental benefits of the gasoline deposit control program. Consequently, EPA is making the suggested revision to 40 CFR 80.162(a)(3)(ii).

B. Revisions to the Requirements on the Additive Composition Test Results

Revisions to 40 CFR 80.162(d):

The current requirements in 40 CFR 80.162 state that:

§ 80.162 Additive compositional data.

For a detergent additive product to be eligible for use by detergent blenders in complying with the gasoline detergency requirements of this subpart, the compositional data to be supplied to EPA by the additive manufacturer for the purpose of registering a detergent additive package under § 79.21(a) of this chapter must include* * *.

* * * * *

(d) Description of an FTIR-based method appropriate for identifying the detergent additive package and its detergent-active components (polymers, carrier oils, and others) both qualitatively and quantitatively, together with the actual infrared spectra of the detergent additive package and each detergent-active component obtained by this test method.

EPA's goal in establishing this requirement in its current form was to ensure that the test method supplied by the additive manufacturer to evaluate the composition of a deposit control additive is sufficiently detailed to enable EPA to determine whether the appropriate detergent-active components are present at a concentration no less than the minimum concentration reported in the additive's certification.

CMA requested that 40 CFR 80.162(d) be revised by adding to the end: “The FTIR infrared spectra submitted in connection with the registration of a detergent additive package must reflect the results of a test conducted on a sample of the additive containing the detergent-active component(s) at a concentration no lower than the concentration(s) (or the lower bound of a range of concentration) reported in the registration pursuant to paragraph (a)(3)(i)(B) of this section.” CMA stated that this addition would help to clarify the criteria EPA would use in evaluating the validity of the additive composition test data supplied at certification by explicitly stating the focus is identifying the detergent-active components in the deposit control additive package. CMA stated that this change is consistent with the change discussed in the previous section which would eliminate reporting requirements regarding variability in the composition and concentration of non-detergent-active components in the deposit control additive package.

EPA agrees that this change would serve to clarify the regulatory requirements and is consistent with the change discussed in the previous section regarding reporting requirements related to the nondetergent-active components of the deposit control additive package. Consequently, EPA is making the suggested revision to 40 CFR 80.162(d).

C. Revisions to the Requirements on Detergent Manufacturer Presumptive Liability Affirmative Defense

Revisions to 40 CFR 80.169(c)(4)(i)(C)(2)

The current requirements in 40 CFR 80.169(c)(4)(i)(C)(2) state that:

(2) To establish that, when it left the manufacturer's control, the detergent component of the noncomplying product was in conformity with the chemical composition and concentration specifications reported pursuant to § 80.161(b), the FTIR test results for the detergent batch used in the noncomplying product must, in EPA's judgment, be consistent with the FTIR results submitted at the time of registration pursuant to § 80.162(d).

EPA's goal in establishing this requirement in its current form was to ensure that the in-use composition of the detergent-active components in a deposit control additive package is consistent with the composition reported in the additive's certification.

CMA requested that 40 CFR 80.169(c)(4)(i)(C)(2) be revised by deleting: “in EPA's judgment.” CMA stated that this phrase inappropriately suggests that EPA's evaluation of the additive composition test data could be based on subjective criteria not open to public review. EPA agrees that the evaluation of additive composition test data must be based on objective scientific and engineering criteria that are open to public evaluation. Therefore, EPA is making the suggested revision to 40 CFR 80.169(c)(4)(i)(C)(2) to eliminate the potential misunderstanding.

III. What Are the Economic and Environmental Impacts?

The revisions made by today's notice will reduce the burden of compliance with the gasoline deposit control additive program while not impacting the environmental benefits of the program.

IV. Administrative Requirements

A. Administrative Designation

Under Executive Order 12866 (58 FR 51735, October 4, 1993), the Agency must determine whether this regulatory action is “significant” and therefore subject to OMB review and the requirements of the Executive Order. The Order defines a “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs or the rights and obligations of recipients thereof; or

(4) Raise novel legal or policy issues arising out of legal mandates, the President's priorities, or the principles set forth in the Executive Order.

EPA has determined that this rule is not a “significant regulatory action” under the terms of Executive Order 12866 and is therefore not subject to OMB review.

B. Regulatory Flexibility

EPA determined that it is not necessary to prepare a regulatory flexibility analysis in connection with this final rule. Today's final rule will not have a significant impact on a substantial number of small entities. Today's rule simplifies the requirements for additive manufacturers under the gasoline deposit control program and does not impose any significant new requirements. The regulatory changes in today's rule will reduce the burden of compliance for all affected parties.

C. Unfunded Mandates Reform Act

Title II of the Unfunded Mandates Reform Act of 1995 (UMRA), Public Law 104-4, establishes requirements for federal agencies to assess the effects of their regulatory actions on State, local, and tribal governments and the private sector. Under sections 202 and 205 of the UMRA, EPA generally must prepare a written statement to accompany any proposed and final rule that includes a federal mandate that may result in expenditures by state, local, and tribal governments in the aggregate, or by the private sector, of $100 million or more for any one year. Before promulgating an EPA rule for which a written statement is needed, section 205 of the UMRA generally requires EPA to identify and consider a reasonable number of regulatory alternatives and adopt the least costly, most cost effective, or least burdensome alternative that achieves the objectives of the rule. The provisions of section 205 do not apply when they are inconsistent with applicable law. Moreover, section 205 allows EPA to adopt an alternative other than the least costly, most cost effective, or least burdensome alternative if the Administrator publishes with the final rule an explanation of why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant federal intergovernmental mandates, and informing, educating, and advising small governments on compliance with the regulatory requirements.

Today's rule contains no federal mandates (under the regulatory provisions of Title II of the UMRA) for State, local, or tribal governments. The rule imposes no enforceable duties on any of these governmental entities. Nothing in the regulatory provisions in this direct final rule would significantly or uniquely affect small governments. EPA has determined that this rule does not contain a federal mandate that may result in expenditures of $100 million or more in any one year for State, local, and tribal governments in the aggregate, or the private sector in any one year. The amendments contained in this final rule simplify the requirements under the gasoline deposit control program, and do not impose any significant new requirements.

D. Compliance With the Paperwork Reduction Act

Today's direct final rule does not impose any new information collection burden. No new information collection requirements would result from the implementation of the provisions which are the subject of this action.

The Office of Management and Budget (OMB) has previously approved the information collection requirements of the EPA's Gasoline Deposit Control Additive Program contained in 40 CFR Part 80 under the provisions of the Paperwork Reduction Act, 44 U.S.C. 3501 et seq. and has assigned OMB control number 2060-0275 (EPA ICR No. 1655.04). Today's rule does not result in a change in the requirements contained in this ICR.

Burden means the total time, effort, or financial resources expended by persons to generate, maintain, retain, or disclose or provide information to or for a federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Copies of the ICR documents may be obtained from Sandy Farmer, Information Policy Branch; EPA; 401 M St., SW. (mail code 2136); Washington, DC 20460 or by calling (202) 260-2740. Include the ICR and/or OMB number in any correspondence.

E. Compliance With Executive Order 13045

This direct final rule is not subject to Executive Order 13045, entitled “Protection of Children from Environmental Health Risks and Safety Risks” (62 FR 19885, April 23, 1997), because it does not involve decisions on environmental health risks or safety risks that may disproportionately affect children.

F. Consultation and Coordination With Indian Tribal Governments

On January 1, 2001, Executive Order 13084 was superseded by DO 13175. However this rule was developed during the period when Executive Order 13084 was still in force, and so tribal considerations were addressed under Executive Order 13084. In the “Proposed Rules” section of today's Federal Register publication, we are publishing a separate document that will serve as the proposal to make these regulatory revisions if adverse comments are filed. This proposed rule was also developed during the period when Executive Order 13084 was still in force, and so tribal considerations were addressed under Executive Order 13084. In the event that adverse comments are received on this proposal, we will address any such comments received in a subsequent final rule based on the proposed rule. Development of such a subsequent final rule will address tribal considerations under Executive Order 13175.

Under Executive Order 13084, EPA may not issue a regulation that is not required by statute, that significantly or uniquely affects the communities of Indian tribal governments, and that imposes substantial direct compliance costs on those communities, unless the federal government provides the funds necessary to pay the direct compliance costs incurred by the tribal governments. If the mandate is unfunded, EPA must provide to the Office of Management and Budget, in a separately identified section of the preamble to the rule, a description of the extent of EPA's prior consultation with representatives of affected tribal governments, a summary of the nature of their concerns, and a statement supporting the need to issue the regulation. In addition, Executive Order 13084 requires EPA to develop an effective process permitting elected and other representatives of Indian tribal governments “to provide meaningful and timely input in the development of regulatory policies on matters that significantly or uniquely affect their communities.”

This rule does not significantly or uniquely affect the communities of Indian tribal governments. As noted above, this direct final rule makes minor technical changes to federal regulations that will be implemented at the federal level and affects only obligations on private industry. Accordingly, the requirements of Executive Order 13084 do not apply to this rule.

G. National Technology Transfer and Advancement Act

Section 12(d) of the National Technology Transfer and Advancement Act of 1995 (“NTTAA”), Public Law 104-113, Section 12(d) (15 U.S.C. 272 note) directs EPA to use voluntary consensus standards in its regulatory activities unless doing so would be inconsistent with applicable law or would be otherwise impractical. Voluntary consensus standards are technical standards (e.g., materials specifications, test methods, sampling procedures, and business practices) that are developed or adopted by voluntary consensus standards bodies. NTTAA directs EPA to provide Congress, through OMB, explanations when the Agency decides not to use available and applicable voluntary consensus standards. This direct final rule does not involve technical standards. Therefore, EPA did not consider the use of any voluntary consensus standards.

H. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A Major rule cannot take effect until 60 days after it is published in the Federal Register. This action is not a “major rule” as defined by 5 U.S.C. 804(2). This rule will be effective February 4, 2002.

I. Executive Order 13211 (Energy Effects)

This rule is not subject to Executive Order 13211, “Actions Concerning Regulations That Significantly Affect Energy Supply, Distribution, or Use” (66 FR 28355 (May 22, 2001)) because it is not a significant regulatory action under Executive Order 12866.

J. Executive Order 13132 (Federalism)

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This rule does not have federalism implications. It will not have substantial direct effects on the States, on the relationship between the national government and the States, or on the distribution of power and responsibilities among the various levels of government, as specified in Executive Order 13132. Section 211(d)(4)(A) of the CAA prohibits States from prescribing or attempting to enforce controls or prohibitions respecting any fuel characteristic or component if EPA has prescribed a control or prohibition applicable to such fuel characteristic or component under Section 211(c)(1) of the Act. This rule merely modifies existing EPA detergent additive standards and therefore will merely continue an existing preemption of State and local law. Thus, Executive Order 13132 does not apply to this rule.

VI. Statutory Authority

The promulgation of these regulations is authorized by sections 114, 211 and 301(a) of the Clean Air Act as amended (42 U.S.C. 7414, 7545, and 7601(a)).

List of Subjects in 40 CFR Part 80

Environmental protection, Fuel additives, Gasoline deposit control (detergent) additives, Gasoline, Motor vehicle pollution, Penalties, Reporting and recordkeeping requirements.

Dated: October 24, 2001.
Christine Todd Whitman,
Administrator.

For the reasons set forth in the preamble, part 80 of title 40 of the Code of Federal Regulations is to be amended as follows:

PART 80—[AMENDED]

1. The authority citation for part 80 continues to read as follows:

Authority: 42 U.S.C. 7414, 7545, and 7601(a).

2. Section 80.162 is amended:

a. By revising paragraph (a)(3)(i)(B).

b. By revising paragraph (a)(3)(ii).

c. By revising paragraph (d).

The revisions to § 80.162 read as follows:

§ 80.162 Additive compositional data.

* * * * *

(a) * * *

(3) * * *

(i) * * *

(B) Include a range of concentration for any detergent-active component such that, if the component were present in the detergent additive package at the lower bound of the reported range, the deposit control effectiveness of the additive package would be reduced as compared with the level of effectiveness demonstrated during certification testing. Subject to the foregoing constraint, a detergent additive product sold under a particular additive registration may contain a higher concentration of the detergent-active component(s) than the concentration(s) of such component(s) reported in the registration for the additive.

(ii) The identity or concentration of non-detergent-active components of the detergent additive package may vary under a single registration provided that such variability does not reduce the deposit control effectiveness of the additive package as compared with the level of effectiveness demonstrated during certification testing.

(b) * * *

(c) * * *

(d) Description of an FTIR-based method appropriate for identifying the detergent additive package and its detergent-active components (polymers, carrier oils, and others) both qualitatively and quantitatively, together with the actual infrared spectra of the detergent additive package and each detergent-active component obtained by this test method. The FTIR infrared spectra submitted in connection with the registration of a detergent additive package must reflect the results of a test conducted on a sample of the additive containing the detergent-active component(s) at a concentration no lower than the concentration(s) (or the lower bound of a range of concentration) reported in the registration pursuant to paragraph (a)(3)(i)(B) of this section.

* * * * *

3. Section 80.169 is amended by revising paragraph (c)(4)(i)(C)(2) to read as follows:

§ 80.169 Liability for violations of the detergent certification program controls and prohibitions.

* * * * *

(c) * * *

(4) * * *

(i) * * *

(C) * * *

(2) To establish that, when it left the manufacturer's control, the detergent component of the noncomplying product was in conformity with the chemical composition and concentration specifications reported pursuant to § 80.161(b), the FTIR test results for the detergent batch used in the noncomplying product must be consistent with the FTIR results submitted at the time of registration pursuant to § 80.162(d).

* * * * *

[FR Doc. 01-27588 Filed 11-2-01; 8:45 am]

BILLING CODE 6560-50-P